DEPARTMENT OF HEALTH AND HUMAN SERVICES

Centers for Disease Control and Prevention

Diffusion of Partnership for Health to Health Care and Medical Agencies Serving Persons Living With HIV/AIDS

Announcement Type: New.

Funding Opportunity Number: CDC-RFA-AA068.

Catalog of Federal Domestic Assistance Number: 93.941.

DATES:

Letter of Intent Deadline: July 25, 2005.

Application Deadline: August 8, 2005.

I. Funding Opportunity Description

Authority: Public Health Service Act, Section 301(a), [42 U.S.C. 241(a)], as amended.

Background: Partnership for Health ¹ (PfH) is a brief counseling program, delivered by medical providers, for men and women living with HIV/AIDS. The program is designed to improve patient-provider communication about disclosure of HIV serostatus and HIV prevention. PfH is based on a social cognitive model that uses message framing, repetition, and reinforcement to increase the patient's knowledge, skills, and motivations to engage in behaviors that reduce risk for HIV transmission. The AIDS Education and Training Centers (AETCs) have diffused PfH to the 12 new CDC-funded PA #04064 agencies. This project will expand the diffusion of PfH to 35-40 more clinics, via intervention training and technical assistance.

¹ Richardson, J.L., Milam, J., McCutchan, A., Stoyanoff, S., Bolan, R., Weiss, J., Kemper, C., Larsen, R.A., Hollander, H., Weismuller, P., Chou, C.P., Marks, G. (2004). Effect of brief safer-sex counseling by medical providers to HIV-1 seropositive patients: A multi-clinic assessment. AIDS, 18:1179-1186.

Purpose: The purpose of the program is to diffuse the PfH intervention to health care professionals, and other public or private medical facilities, that provide services to HIV-positive persons through national training and technical assistance for planning, implementation, and evaluation of PfH. Partnership for Health is an evidence-based HIV prevention intervention designed to integrate HIV prevention into medical services for persons living with HIV/AIDS. This program addresses the Healthy People 2010 focus area of HIV infection. It also addresses Strategy 3 of the Advancing HIV Prevention initiative: Prevent new infections by working with persons diagnosed with HIV and with their partners.

This project supports the following Division of HIV/AIDS Prevention (DHAP) Strategic Plan priorities:

Goal 1, Objective 1: Among persons living with HIV, increase the proportion who consistently engage in behaviors that reduce risk for HIV transmission or acquisition.

Goal 4, Objective 2: Increase the number of evidence-based interventions and the proportion of prevention providers funded by CDC who successfully provide demonstrably effective HIV prevention interventions.

Measurable outcomes of the program will align with the following performance goal for the National Center for HIV, STD, and TB Prevention (NCHSTP):

Goal 1. Decrease the number of persons at high risk for acquiring or transmitting HIV infection.

This announcement is only for nonresearch activities supported by CDC/ATSDR. If research is proposed, the application will not be reviewed. For the definition of research, please see the CDC Web site at the following Internet address: http://www.cdc.gov/od/ads/opspoll1.htm.

Activities: Awards activities for this program are as follows:

• In cooperation with CDC and other grantees funded under this announcement, the grantee will develop and implement a marketing plan to promote the diffusion of the PfH intervention to health care and other public or private medical facilities providing services to HIV-positive persons within their public health designated area.

• The grantee will identify and contact at least two health care and other public or private medical facilities that provide services to HIV-positive persons and that are interested in implementing PfH. This information will be shared with CDC and other grantees funded under this announcement to ensure adequate coverage of PfH in the United States and its territories.

• In accordance with PfH trainer curriculum and related intervention materials, the grantee will plan, schedule, and conduct PfH training sessions for health care and other public or private medical facilities providing services to HIV-positive persons. The number of agencies trained will range from two to eight depending on regional clinic demand and epidemiologic need. Each PfH training session will include: (1) A 45-minute orientation program on site; (2) a 4½-hour training program on site; and (3) a 2-hour booster program on site. The grantee will work in partnership with CDC and other grantees under this program announcement to establish a national training calendar for PfH.

• The grantee will provide two trainers, who have completed the PfH training-of-trainers conducted by the University of Southern California, to conduct each of the three components of the PfH training and to provide technical assistance.

• The grantee will provide technical assistance to trained agencies to support planning, implementation, and evaluation of PfH during the program year. Technical assistance will be provided by telephone, e-mail, or face-to-face. The grantee will coordinate this technical assistance with CDC, which may include using a CDC Web-based tracking system.

• The grantee, along with CDC and other grantees funded under this announcement, will develop and implement a quality assurance plan for the training delivery and technical assistance.

• The grantee will obtain a PfH intervention package and related materials (e.g., starter kit, technical assistance guide, sample budget) for training participants from the PfH researcher, Jean Richardson, at the Keck School of Medicine, University of Southern California, Department of Preventive Medicine and Institute for Prevention Research, 1441 Eastlake Avenue, Suite 3409, Los Angeles, CA 90089-9175. Phone: 323-865-0343. E-mail: jeanr@usc.edu.

• The grantee will submit the list of agencies to be trained and schedule of training sessions to the CDC Project Officer and other grantees funded under this program announcement.

• The grantee will submit an interim report summarizing the activities and deliverables for the first half of the project period, including training provided and scheduled, dates of training, attendance at training sessions, a narrative description of the response of the organization and problems/challenges encountered, lessons learned, recruitment efforts for PfH training, technical assistance provided, and other activities.

• The grantee will submit a final project report summarizing the activities and deliverables for the project period, including training completed, lessons learned, challenges, recruitment efforts for PfH training, technical assistance provided, and other activities.

In a cooperative agreement, CDC staff members are substantially involved in the program activities, above and beyond routine grant monitoring.

CDC activities for this program are as follows:

• Provide technical assistance in the general operation of this HIV prevention project, including but not limited to detailed advice on steps to accomplish the grantee activities.

• Consult on the choice of agencies selected for PfH training, by suggesting selection criteria, assisting in identifying potential agencies in the event that a grantee has difficulty, and approving the final choices.

• Monitor and evaluate progress and deliverables of this project through frequent telephone contact; observation of PfH training sessions; and review of implementation plans, interim and final progress reports, quality assurance plans, marketing plans, and training schedules.

• Conduct monthly calls with individual grantees and monthly conference calls with all grantees funded to provide PfH training to encourage exchange of information and technology transfer among grantees.

• Make recommendations aimed at solving problems and improving the quality and timeliness of grantee activities.

II. Award Information

Type of Award: Cooperative Agreement. CDC involvement in this program is described in the preceding activities section.

Fiscal Year Funds: FY 2005.

Approximate Total Funding: $350,000.

Approximate Number of Awards: 11 (eleven).

Approximate Average Award: $40,000. (This amount is for the 12-month budget period, and includes both direct and indirect costs.)

Floor of Award Range: $20,000.

Ceiling of Award Range: $60,000. (This ceiling is for the first 12-month budget period.)

Anticipated Award Date: August 31, 2005.

Budget Period Length: 12 months.

Project Period Length: Two years.

Throughout the project period, CDC's commitment to continuation of awards will be conditioned on the availability of funds, evidence of satisfactory progress by the recipient (as documented in required reports), and the determination that continued funding is in the best interest of the federal government.

III. Eligibility Information

III.1. Eligible applicants

Applications may be submitted by academic medical centers meeting the requirements of the criteria listed under III.3. Other.

III.2. Cost Sharing or Matching

Matching funds are not required for this program.

III.3. Other

If you request a funding amount greater than the ceiling of the award range, your application will be considered non-responsive and will not be entered into the review process. You will be notified that your application did not meet the submission requirements.

Special Requirements: If any of the aforementioned academic medical centers do not have the following qualifications, they will not be eligible to apply for this program: (1) Experience conducting targeted, multidisciplinary education and training programs for health care providers treating persons living with HIV/AIDS (e.g., physicians, advanced practice nurses, physician assistants, nurses, oral health professionals, and pharmacists); (2) experience collaborating with organizations funded by the Ryan White Comprehensive AIDS Resources Emergency (CARE) Act, area health education centers, community-based HIV/AIDS organizations, and medical and health professional organizations; and (3) location in the region or locality of the agencies to be trained as identified in the application.

If your application is incomplete or nonresponsive to the special requirements listed in this section, it will not be entered into the review process. You will be notified that your application did not meet submission requirements.

• Late applications will be considered nonresponsive. See section “IV.3. Submission Dates and Times” for more information on deadlines.

• Note: Title 2 of the United States Code, Section 1611, states that an organization described in Section 501(c)(4) of the Internal Revenue Code that engages in lobbying activities is not eligible to receive federal funds constituting an award, grant, or loan.

IV. Application and Submission Information

IV.1. Address To Request Application Package

To apply for this funding opportunity use application form PHS 5161-1.

Electronic Submission: CDC strongly encourages the applicant to submit the application electronically by utilizing the forms and instructions posted for this announcement on http://www.Grants.gov, the official Federal agency wide E-grant Web site. Only applicants who apply on-line are permitted to forego paper copy submission of all application forms.

Paper Submission: Application forms and instructions are available on the CDC Web site, at the following Internet address: http://www.cdc.gov/od/pgo/forminfo.htm.

If access to the Internet is not available, or if there is difficulty accessing the forms on-line, contact the CDC Procurement and Grants Office Technical Information Management Section (PGO-TIM) staff at 770-488-2700 and the application forms can be mailed.

IV.2. Content and Form of Submission

Letter of Intent (LOI): Your LOI must be written in the following format:

• Maximum number of pages: 1.

• Font size: 12-point unreduced.

• Single spaced.

• Paper size: 8.5 by 11 inches.

• Page margin size: 1 inch.

• Printed on only one side of page.

• Written in plain language, avoid jargon.

Your LOI must contain the following information:

• Intention to submit an application.

• Approximate number of organizations to be targeted for training.

• Name, address, and telephone number for the applicant.

• Name, address, and telephone number for contact person for this application.

• Number and title of this RFA.

Application: You must submit a project narrative with your application forms. The narrative must be submitted in the following format:

• Maximum number of pages: 15. If your narrative exceeds the page limit, only the first 15 pages will be reviewed.

• Font size: 12-point unreduced.

• Double spaced.

• Paper size: 8.5 by 11 inches.

• Page margin size: One inch.

• Printed on only one side of page.

• Held together only by rubber bands or metal clips; not bound in any other way.

• Cover page—funding opportunity number and title of this announcement.

• Table of contents—with the major sections and page numbering, including each attachment.

• Consecutive page numbering throughout the document, including attachments.

Your narrative should address activities to be conducted over the entire project period, and it must include the following items in the order listed:

A. Introduction

B. Statement of Need

C. Capacity

D. Implementation Plan

E. Quality Assurance Plan

F. Evaluation of the project and services provided

G. Performance Goals

H. Budget (will not count in the stated page limit)

A. Introduction

The introduction narrative should consist of a one-page abstract of the proposal, a complete table of contents to the application and its appendices, and text addressing each required element. Beginning with the first page of text, number all pages clearly and sequentially, including each page in the appendices.

B. Statement of Need

Describe the need for the integration of HIV prevention services into medical care for persons living with HIV/AIDS in the region or community that will be targeted for recruitment. Describe known or estimated demand for PfH training in the proposed region or community. Describe how organizations will be targeted for recruitment for PfH based on epidemiologic data, number of organizations that will be selected for training, and selection process, if demand exceeds capacity to provide PfH training and technical assistance. Describe the populations served by the organizations to be recruited.

C. Capacity

a. Demonstrate capacity to conduct the activities required for this project, including all mentioned under other eligibility requirements and experience with the population(s) for whom the intervention was designed. Include evidence of experience conducting similar trainings and technical assistance to Ryan White CARE Act-funded sites, and other health care professionals and medical facilities providing services to HIV-positive persons.

b. Clearly describe the proposed staffing, e.g., show percentages of each staff member's commitment to this and other projects, the division of duties and responsibilities for this project, brief position descriptions for existing and proposed personnel, and any partnerships with HIV prevention agencies.

c. Demonstrate that the applicant's staff has the expertise to complete this project. Name the staff members who are key to the completion of the project. Provide a brief description of their strengths that relate to this project. Include their curriculum vitae in the appendix.

d. Describe current protocols for quality assurance and evaluation of high-quality training and technical assistance. Include examples of how quality assurance or evaluation findings were used to improve services.

e. Briefly describe compliance regarding the inclusion of women and ethnic and racial groups in the proposed activities or justification when representation is limited or absent.

D. Implementation Plan

Describe the applicant's plan and timeframe for implementation of this project, including but not limited to these activities:

a. Identifying health care and medical facilities that are interested in receiving PfH training and implementing PfH intervention.

b. Planning, scheduling, and implementing PfH training sessions.

c. Providing technical assistance and other methods to support implementation of PfH.

d. Communicating regularly with CDC regarding progress of this project and for review and approval of aforementioned activities.

E. Quality Assurance Plan

Describe the quality assurance plan that will be used to maintain high-quality training and technical assistance to the organizations trained. Include the staff responsibility for quality assurance activities.

F. Evaluation of the Project and Services Provided

Describe the process for evaluating the trained organizations' satisfaction with training, technical assistance, and support for PfH implementation.

G. Performance Goals

Describe the measurable outcomes of the project and how these will align with one or more of the following performance goals:

a. Strengthen the capacity nationwide to monitor the epidemic, develop and implement effective HIV prevention interventions, and evaluate prevention programs.

b. Decrease the number of persons at high risk for acquiring or transmitting HIV infection.

H. Budget (Will Not Count in the Stated Page Limit)

Provide a detailed, line-item budget for the project; justify each line item. This cooperative agreement is for purposes of coordinating a national training initiative to diffuse PfH into medical practice. Any application requesting greater than eight percent in indirect costs will not be considered for review and will be returned to the applicant.

Additional information may be included in the application appendices. The appendices will not be counted toward the narrative page limit. This additional information includes:

• Curriculum vitae or resumes.

• Organizational charts.

• References.

• Quality assurance tools.

• Evaluation tools.

You are required to have a Dun and Bradstreet Data Universal Numbering System (DUNS) number to apply for a grant or cooperative agreement from the federal government. The DUNS number is a nine-digit identification number, which uniquely identifies business entities. Obtaining a DUNS number is easy and there is no charge. To obtain a DUNS number, access http://www.dunandbradstreet.com or call 1-866-705-5711. For more information, see the CDC Web site at this Internet address: http://www.cdc.gov/od/pgo/funding/pubcommt.htm.

If your application form does not have a DUNS number field, please write your DUNS number at the top of the first page of your application or include your DUNS number in your application cover letter.

Additional requirements that may require you to submit additional documentation with your application are listed in section “VI.2. Administrative and National Policy Requirements.”

IV.3. Submission Dates and Times

LOI Deadline Date: July 25, 2005.

CDC requests that you send a LOI if you intend to apply for this program. Although the LOI is not required, not binding, and does not enter into the review of your subsequent application, the LOI will be used to gauge the level of interest in this program and to allow CDC to plan the application review.

Application Deadline Date: August 8, 2005.

Explanation of Deadlines: Applications must be received in the CDC Procurement and Grants Office by 4 p.m. eastern time on the deadline date.

Applications may be submitted electronically at http://www.grants.gov. Applications completed on-line through Grants.gov are considered formally submitted when the applicant organization's Authorizing Official electronically submits the application to http://www.grants.gov. Electronic applications will be considered as having met the deadline if the application has been submitted electronically by the applicant organization's Authorizing Official to Grants.gov on or before the deadline date and time.

If submittal of the application is done electronically through Grants.gov (http://www.grants.gov), the application will be electronically time/date stamped, which will serve as receipt of submission. Applicants will receive an e-mail notice of receipt when CDC receives the application.

If submittal of the LOI or application is by the United States Postal Service or commercial delivery service, the applicant must ensure that the carrier will be able to guarantee delivery by the closing date and time. If CDC receives the submission after the closing date due to: (1) Carrier error, when the carrier accepted the package with a guarantee for delivery by the closing date and time, or (2) significant weather delays or natural disasters, the applicant will be given the opportunity to submit documentation of the carrier's guarantee. If the documentation verifies a carrier problem, CDC will consider the submission as having been received by the deadline.

If a hard copy application is submitted, CDC will not notify the applicant upon receipt of the submission. If questions arise on the receipt of the application, the applicant should first contact the carrier. If the applicant still has questions, contact the PGO-TIM staff at (770) 488-2700. The applicant should wait two to three days after the submission deadline before calling. This will allow time for submissions to be processed and logged.

This announcement is the definitive guide on LOI and application content, submission address, and deadline. It supersedes information provided in the application instructions. If the submission does not meet the deadline above, it will not be eligible for review, and will be discarded. The applicant will be notified the application did not meet the submission requirements.

IV.4. Intergovernmental Review of Applications

Executive Order 12372 does not apply to this program.

IV.5. Funding Restrictions

Restrictions, which must be taken into account while writing your budget, are as follows:

• Funds may not be used for research.

• Reimbursement of pre-award costs is not allowed.

• Indirect charges are limited to eight percent.

If you are requesting indirect costs in your budget, you must include a copy of your indirect cost rate agreement. If your indirect cost rate is a provisional rate, the agreement should have been in effect less than 12 months.

Guidance for completing your budget can be found on the CDC Web site, at the following Internet address: http://www.cdc.gov/od/pgo/funding/budgetguide.htm.

IV.6. Other Submission Requirements

LOI Submission Address: Submit your LOI by express mail, delivery service, fax, or e-mail to: Dr. Miriam E. Phields, CDC/NCHSTP/DHAP/CBB, 1600 Clifton Road, Mail Stop E-40, Atlanta, GA 30333. Telephone: 404-639-4957. Fax: 404-639-0915. E-mail: MPhields@cdc.gov.

Application Submission Address:

Electronic Submission: CDC strongly encourages applicants to submit applications electronically at http://www.Grants.gov. The application package can be downloaded from http://www.Grants.gov. Applicants are able to complete it off-line, and then upload and submit the application via the Grants.gov Web site. E-mail submissions will not be accepted. If the applicant has technical difficulties in Grants.gov, costumer service can be reached by e-mail at http://www.grants.gov/CustomerSupport or by phone at 1-800-518-4726 (1-800-518-GRANTS). The Customer Support Center is open from 7 a.m. to 9 p.m. eastern time, Monday through Friday.

CDC recommends that submittal of the application to Grants.gov should be early to resolve any unanticipated difficulties prior to the deadline. Applicants may also submit a back-up paper submission of the application. Any such paper submission must be received in accordance with the requirements for timely submission detailed in Section IV.3. of the grant announcement. The paper submission must be clearly marked: “BACK-UP FOR ELECTRONIC SUBMISSION.” The paper submission must conform to all requirements for non-electronic submissions. If both electronic and back-up paper submissions are received by the deadline, the electronic version will be considered the official submission.

It is strongly recommended that the applicant submit the grant application using Microsoft Office products (e.g., Microsoft Word, Microsoft Excel, etc.). If the applicant does not have access to Microsoft Office products, a PDF file may be submitted. Directions for creating PDF files can be found on the Grants.gov Web site. Use of file formats other than Microsoft Office or PDF may result in the file being unreadable by staff.

Or:

Paper Submission: Applicants should submit the original and two hard copies of the application by mail or express delivery service to: Technical Information Management—CDC-RFA-AA068, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:.

1. Capacity (30 Points)

Does the applicant have the overall ability to perform the proposed activities, including all mentioned under other eligibility requirements and experience with populations for whom the intervention was designed, as reflected in their staff's qualifications and availability? How well has the applicant demonstrated that proposed staff members have experience with PfH training, Ryan White CARE Act-funded sites, and other health care and medical organizations, and quality assurance to provide high-quality professional education, training, and technical assistance? Has the applicant provided evidence that the proposed trainers completed the training-of-trainers for PfH from Dr. Jean Richardson at the University of Southern California? Are there existing support staff, equipment, and facilities?

2. Implementation Plan (30 Points)

Is the plan adequate and feasible to carry out the proposed objectives and performance goals in a timely manner, including agency recruitment and selection, implementation, process monitoring and evaluation, technical assistance, and other support for PfH implementation? Does the plan include quantitative process measures? Are the staff roles clearly defined? As described, will the staff be sufficient to accomplish the program goals?

3. Statement of Need (20 Points)

To what extent does the applicant justify the need for this program within the region or community targeted? Do the epidemiologic and other data support this need? Does evidence demonstrate a demand for PfH intervention?

4. Quality Assurance (10 Points)

To what extent has the applicant demonstrated an adequate plan to maintain high-quality services?

5. Evaluation (10 Points)

To what extent has the applicant demonstrated ability to measure and achieve process outcomes?

6. Budget and Justification

(Reviewed but not scored.)

V.2. Review and Selection Process

Applications will be reviewed for completeness by the Procurement and Grants Office (PGO) staff, and for responsiveness by NCHSTP. Incomplete applications and applications that are nonresponsive to the eligibility criteria will not advance through the review process. Applicants will be notified that their application did not meet submission requirements.

An objective review panel will evaluate complete and responsive applications according to the criteria listed in the preceding “V.1. Criteria” section. The objective review panel will be composed of CDC and other federal employees.

In addition, the following factors may affect the funding decision:

• Maintaining geographic diversity.

• Giving preference to organizations in certain geographic areas with high HIV seroprevalence or a large number of AIDS cases.

CDC will provide justification for any decision to fund out of rank order.

V.3. Anticipated Announcement and Award Dates

Award date: August 31, 2005.

VI. Award Administration Information

VI.1. Award Notices

Successful applicants will receive a Notice of Award (NoA) from the CDC Procurement and Grants Office. The NoA will be the only binding, authorizing document between the recipient and CDC. The NoA will be signed by an authorized Grants Management Officer and mailed to the recipient fiscal officer identified in the application.

Unsuccessful applicants will receive notification of the results of the application review by mail.

VI.2. Administrative and National Policy Requirements

45 CFR part 74 and part 92.

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-6 Patient Care

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

• AR-24 Health Insurance Portability and Accountability Act Requirements

• AR-25 Release and Sharing of Data

Additional information on these requirements can be found on the CDC Web site at the following Internet address: http://www.cdc.gov/od/pgo/funding/ARs.htm.

An additional Certifications form from the PHS 5161-1 application needs to be included in your Grants.gov electronic submission only. Refer to http://www.cdc.gov/od/pgo/funding/PHS5161-1-Certifications.pdf. Once this form is filled out, attach it to your Grants.gov submission as Other Attachment Forms.

VI.3. Reporting Requirements

You must provide CDC with an original, plus two hard copies of the following reports:

1. Interim progress report, due no more than 30 days after the performance period. The progress report will serve as your noncompeting continuation application and must contain the following elements:

a. Current Budget Period Activities Objectives.

b. Current Budget Period Financial Progress.

c. New Budget Period and Program Proposed Activity Objectives.

d. Budget.

e. Measures of Effectiveness.

f. Additional Requested Information.

2. Financial status report and annual progress report, due 60 days after the end of the budget period.

3. Final financial and performance reports, due no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341. Telephone: 770-488-2700.

For program technical assistance, contact: Dr. Miriam E. Phields, Project Officer, CDC/NCHSTP/DHAP/CBB, 1600 Clifton Road, Mail Stop E-40, Atlanta, GA 30333. Telephone: 404-639-4957. Fax: 404-639-0915. E-mail: MPhields@cdc.gov.

For financial, grants management, or budget assistance, contact: Angie Tuttle, Grants Management Specialist, CDC Procurement and Grants Office, 2920 Brandywine Road, Atlanta, GA 30341. Telephone: 404-498-1913. E-mail: ATuttle@cdc.gov.

VIII. Other Information

This announcement and other CDC funding opportunity announcements can be found on the CDC Web site, Internet address: http://www.cdc.gov. Click on “Funding” then “Grants and Cooperative Agreements.”

Dated: July 8, 2005.
William P. Nichols,
Director, Procurement and Grants Office, Centers for Disease Control and Prevention.

[FR Doc. 05-13848 Filed 7-13-05; 8:45 am]

BILLING CODE 4163-18-P